DEPARTMENT OF HOMELAND SECURITY

Federal Emergency Management Agency

[Docket ID FEMA-2015-0001; Internal Agency Docket No. FEMA-B-1549]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: October 30, 2015.
Roy E. Wright,
Deputy Associate Administrator for Insurance and Mitigation, Department of Homeland Security, Federal Emergency Management Agency.

State and county | Location and case No. | Chief executive officer of community | Community map repository | Online location of letter of map revision | Effective date of modification | Community No.
Arkansas:
Benton | City of Rogers (15-06-0704P) | The Honorable Greg Hines, Mayor, City of Rogers, 301 West Chestnut Street, Rogers, AR 72756 | City Hall, 301 West Chestnut Street, Rogers, AR 72756 | http://www.msc.fema.gov/lomc | Jan. 6, 2016 | 050013
Washington | City of Fayetteville (14-06-3204P) | The Honorable Lioneld Jordan, Mayor, City of Fayetteville, 113 West Mountain Street, Fayetteville, AR 72701 | City Hall, 113 West Mountain Street, Fayetteville, AR 72701 | http://www.msc.fema.gov/lomc | Jan. 25, 2016 | 050216
Colorado:
Arapahoe | Unincorporated areas of Arapahoe County (15-08-0217P) | The Honorable Nancy N. Sharpe, Chair, Arapahoe County Board of Commissioners, 5334 South Prince Street, Littleton, CO 80120 | Arapahoe County Public Works and Development Department, 10730 East Briarwood Avenue, Centennial, CO 80112 | http://www.msc.fema.gov/lomc | Jan. 15, 2016 | 080011
El Paso | City of Colorado Springs (15-08-0117P) | The Honorable John Suthers, Mayor, City of Colorado Springs, 30 South Nevada Avenue, Suite 601, Colorado Springs, CO 80901 | City Hall, 30 South Nevada Avenue, Colorado Springs, CO 80901 | http://www.msc.fema.gov/lomc | Jan. 13, 2016 | 080060
Jefferson | City and County of Broomfield (15-08-0066P) | The Honorable Randy Ahrens, Mayor, City of Broomfield, 1901 Aspen Street, Broomfield, CO 80020 | City Hall, 1 Descombes Drive, Broomfield, CO 80020 | http://www.msc.fema.gov/lomc | Jan. 11, 2016 | 085073
Jefferson | City of Lakewood (15-08-0111P) | The Honorable Bob Murphy, Mayor, City of Lakewood, Lakewood Civic Center South, 480 South Allison Parkway, Lakewood, CO 80226 | Public Works Department, 480 South Allison Parkway, Lakewood, CO 80226 | http://www.msc.fema.gov/lomc | Jan. 22, 2016 | 085075
Jefferson | City of Westminster (15-08-0066P) | The Honorable Herb Atchison, Mayor, City of Westminster, 4800 West 92nd Avenue, Westminster, CO 80031 | City Hall, 4800 West 92nd Avenue, Westminster, CO 80031 | http://www.msc.fema.gov/lomc | Jan. 11, 2016 | 080008
Delaware:
Kent | Unincorporated areas of Kent County (15-03-0350P) | The Honorable P. Brooks Banta, President, Kent County Board of Commissioners, 555 Bay Road, Dover, DE 19901 | Kent County Public Works Department, 555 Bay Road, Dover, DE 19901 | http://www.msc.fema.gov/lomc | Jan. 29, 2016 | 100001
Florida:
Charlotte | City of Punta Gorda (15-04-4050P) | The Honorable Carolyn Freeland, Mayor, City of Punta Gorda, 326 West Marion Avenue, Punta Gorda, FL 33950 | City Hall, 126 Harvey Street, Punta Gorda, FL 33950 | http://www.msc.fema.gov/lomc | Jan. 22, 2016 | 120062
Manatee | Town of Longboat Key (15-04-1422P) | The Honorable Jack Duncan, Mayor, Town of Longboat Key, 501 Bay Isles Road, Longboat Key, FL 34228 | Town Hall, 600 General Harris Street, Longboat Key, FL 34228 | http://www.msc.fema.gov/lomc | Jan. 19, 2016 | 125126
Manatee | Unincorporated areas of Manatee County (15-04-1422P) | The Honorable Betsy Benac, Chair, Manatee County Board of Commissioners, P.O. Box 1000, Bradenton, FL 34206 | Manatee County Public Works Department, 1022 26th Avenue, East, Bradenton, FL 34205 | http://www.msc.fema.gov/lomc | Jan. 19, 2016 | 120153
Miami-Dade | City of Miami (15-04-5201P) | The Honorable Tomas P. Regalado, Mayor, City of Miami, 3500 Pan American Drive, Miami, FL 33133 | City Hall, 444 Southwest 2nd Avenue, Miami, FL 33130 | http://www.msc.fema.gov/lomc | Jan. 26, 2016 | 120650
Monroe | Village of Islamorada (15-04-4517P) | The Honorable Mike Forster, Mayor, Village of Islamorada, 86800 Overseas Highway, Islamorada, FL 33036 | Village Hall, 86800 Overseas Highway, Islamorada, FL 33036 | http://www.msc.fema.gov/lomc | Jan. 14, 2016 | 120424
Monroe | Unincorporated areas of Monroe County (15-04-3973P) | The Honorable Danny Kolhage, Mayor, Monroe County, 530 Whitehead Street, Suite 102, Key West, FL 33040 | Monroe County Building Department, 2798 Overseas Highway, Suite 300, Marathon, FL 33050 | http://www.msc.fema.gov/lomc | Jan. 29, 2016 | 125129
Osceola | Unincorporated areas of Osceola County (15-04-1788P) | The Honorable Brandon Arrington, Chairman, Osceola County Board of Commissioners, 1 Courthouse Square, Suite 4700, Kissimmee, FL 34741 | Osceola County Stormwater Division, 1 Courthouse Square, Suite 3100, Kissimmee, FL 34741 | http://www.msc.fema.gov/lomc | Jan. 8, 2016 | 120189
Orange | Unincorporated areas of Orange County (15-04-1610P) | The Honorable Teresa Jacobs, Mayor, Orange County, 201 South Rosalind Avenue, 5th Floor, Orlando, FL 32801 | Orange County Public Works Department, 4200 South John Young Parkway, Orlando, FL 32839 | http://www.msc.fema.gov/lomc | Jan. 28, 2016 | 120179
Seminole | City of Lake Mary (15-04-5338P) | The Honorable David J. Mealor, Mayor, City of Lake Mary, 100 North Country Club Road, Lake Mary, FL 32746 | City Hall, 911 Wallace Court, Lake Mary, FL 32746 | http://www.msc.fema.gov/lomc | Jan. 28, 2016 | 120416
Georgia:
Douglas | City of Douglasville (15-04-4421P) | The Honorable Harvey Persons, Mayor, City of Douglasville, 6695 Church Street, Douglasville, GA 30134 | Building Department, 6695 Church Street, Douglasville, GA 30134 | http://www.msc.fema.gov/lomc | Jan. 25, 2016 | 130305
Douglas | Unincorporated areas of Douglas County (15-04-4421P) | The Honorable Tom Worthan, Chairman, Douglas County Board of Commissioners, 8700 Hospital Drive, 3rd Floor, Douglasville, GA 30134 | Douglas County Development Services Department, 8700 Hospital Drive, 1st Floor, Douglasville, GA 30134 | http://www.msc.fema.gov/lomc | Jan. 25, 2016 | 130306
Mississippi:
Harrison | City of Gulfport (15-04-4242P) | The Honorable Billy Hewes, Mayor, City of Gulfport, P.O. Box 1780, Gulfport, MS 39501 | City Hall, 1410 24th Avenue, Gulfport, MS 39501 | http://www.msc.fema.gov/lomc | Jan. 15, 2016 | 285253
Montana:
Yellowstone | City of Laurel (15-08-1029P) | The Honorable Mark Mace, Mayor, City of Laurel, 803 West 4th Street, Laurel, MT 59044 | City Planner's Office, 115 West 1st Street, Laurel, MT 59044 | http://www.msc.fema.gov/lomc | Jan. 8, 2016 | 300086
North Carolina:
Wake | Town of Fuquay-Varina (15-04-2204P) | The Honorable John Byrne, Mayor, Town of Fuquay-Varina, 401 Old Honeycutt Road, Fuquay-Varina, NC 27256 | Engineering Department, 401 Old Honeycutt Road, Fuquay-Varina, NC 27256 | http://www.msc.fema.gov/lomc | Dec. 18, 2015 | 370239
Wake | Unincorporated areas of Wake County (15-04-2204P) | The Honorable James West, Chairman, Wake County Board of Commissioners, P.O. Box 550, Raleigh, NC 27602 | Wake County Public Works Department, 222 Hargett Street, Raleigh, NC 27601 | http://www.msc.fema.gov/lomc | Dec. 18, 2015 | 370368
North Dakota:
Dunn | City of Killdeer (15-08-0619P) | The Honorable Chuck Muscha, President, City of Killdeer Council, P.O. Box 270, Killdeer, ND 58640 | Planning and Zoning Department, 165 Railroad Street, Killdeer, ND 58640 | http://www.msc.fema.gov/lomc | Mar. 2, 2016 | 380030
Dunn | Unincorporated areas of Dunn County (15-08-0619P) | The Honorable Reinhard Hauck, Chairman, Dunn County Board of Commissioners, 205 Owens Street, Manning, ND 58642 | Dunn County Planning and Zoning Department, 205 Owens Street, Manning, ND 58642 | http://www.msc.fema.gov/lomc | Mar. 2, 2016 | 380026
McKenzie | City of Watford City (15-08-0808P) | The Honorable Brent Sanford, Mayor, City of Watford City, P.O. Box 422, Watford City, ND 58854 | Planning and Zoning Department, 213 2nd Street Northeast, Watford City, ND 58854 | http://www.msc.fema.gov/lomc | Jan. 28, 2016 | 380344
McKenzie | Unincorporated areas of McKenzie County (15-08-0808P) | The Honorable Richard Cayko, Chairman, McKenzie County Board of Commissioners, 201 5th Street Northwest, Suite 543, Watford City, ND 58854 | McKenzie County Planning and Zoning Department, 201 5th Street Northwest, Suite 699, Watford City, ND 58854 | http://www.msc.fema.gov/lomc | Jan. 28, 2016 | 380054
Pennsylvania:
Westmoreland | Borough of Irwin (14-03-1433P) | The Honorable Robert Wayman, Mayor, Borough of Irwin, 424 Main Street, Irwin, PA 15642 | Borough Hall, 424 Main Street, Irwin, PA 15642 | http://www.msc.fema.gov/lomc | Jan. 21, 2016 | 420881
South Carolina:
Charleston | Town of Mount Pleasant (15-04-5450P) | The Honorable Linda Page, Mayor, Town of Mount Pleasant, 100 Ann Edwards Lane, Mount Pleasant, SC 29464 | Town Hall, 100 Ann Edwards Lane, Mount Pleasant, SC 29464 | http://www.msc.fema.gov/lomc | Jan. 13, 2016 | 455417
Charleston | Town of Mount Pleasant (15-04-7267P) | The Honorable Linda Page, Mayor, Town of Mount Pleasant, 100 Ann Edwards Lane, Mount Pleasant, SC 29464 | Town Hall, 100 Ann Edwards Lane, Mount Pleasant, SC 29464 | http://www.msc.fema.gov/lomc | Jan. 15, 2016 | 455417
Charleston | Unincorporated areas of Charleston County (15-04-7267P) | The Honorable J. Elliot Summey, Chairman, Charleston County Council, 4045 Bridgeview Drive, North Charleston, SC 29405 | Charleston County, Planning and Zoning Department, 4045 Bridgeview Drive, North Charleston, SC 29405 | http://www.msc.fema.gov/lomc | Jan. 15, 2016 | 455413
Texas:
Bexar | City of Castle Hills (14-06-2603P) | The Honorable Timothy A. Howell, Mayor, City of Castle Hills, 209 Lemonwood Drive, Castle Hills, TX 78213 | City Hall, 6915 West Avenue, Castle Hills, TX 78213 | http://www.msc.fema.gov/lomc | Jan. 25, 2016 | 480037
Bexar | City of San Antonio (14-06-2603P) | The Honorable Ivy R. Taylor, Mayor, City of San Antonio, P. O. Box 839966, San Antonio, TX 78283 | Planning and Community Development Department, 100 Military Plaza, San Antonio, TX 78205 | http://www.msc.fema.gov/lomc | Jan. 25, 2016 | 480045
Collin | Town of Prosper (15-06-0487P) | The Honorable Ray Smith, Mayor, Town of Prosper, P.O. Box 307, Prosper, TX 75078 | Engineering Services Department, 407 East 1st Street, Prosper, TX 75078 | http://www.msc.fema.gov/lomc | Jan. 28, 2016 | 480141
Dallas | City of Cedar Hill (15-06-1030P) | The Honorable Rob Franke, Mayor, City of Cedar Hill, 285 Uptown Boulevard, Building 100, Cedar Hill, TX 75104 | City Hall, 285 Uptown Boulevard, Building 100, Cedar Hill, TX 75104 | http://www.msc.fema.gov/lomc | Jan. 7, 2016 | 480168
Denton | Town of Prosper (15-06-1600P) | The Honorable Ray Smith, Mayor, Town of Prosper, P.O. Box 307, Prosper, TX 75078 | Engineering Services Department, 407 East 1st Street, Prosper, TX 75078 | http://www.msc.fema.gov/lomc | Jan. 21, 2016 | 480141
McLennan | City of Waco (15-06-1601P) | The Honorable Malcolm Duncan, Jr., Mayor, City of Waco, P.O. Box 2570, Waco, TX 76702 | Engineering Department, 401 Franklin Avenue, Waco, TX 76701 | http://www.msc.fema.gov/lomc | Jan. 22, 2016 | 480461
McLennan | Unincorporated areas of McLennan County (15-06-1601P) | The Honorable Scott Felton, McLennan County Judge, 501 Washington Avenue, Waco, TX 76701 | McLennan County Engineering Department, 215 North 5th Street, Suite 130, Waco, TX 76701 | http://www.msc.fema.gov/lomc | Jan. 22, 2016 | 480456
Virginia:
Fairfax | Unincorporated areas of Fairfax County (15-03-1596P) | The Honorable Edward L. Long, Jr., Fairfax County Executive, 12000 Government Center Parkway, Fairfax, VA 22035 | Fairfax County Planning and Zoning Department, 12000 Government Center Parkway, Fairfax, VA 22035 | http://www.msc.fema.gov/lomc | Jan. 7, 2016 | 515525
Utah:
Washington | City of Washington (15-08-0247P) | The Honorable Ken Neilson, Mayor, City of Washington, 111 North 100 East, Washington, UT 84780 | Planning and Zoning Department, 111 North 100 East, Washington, UT 84780 | http://www.msc.fema.gov/lomc | Jan. 27, 2016 | 490182

[FR Doc. 2015-30041 Filed 11-24-15; 8:45 am]

BILLING CODE 9110-12-P